DEPARTMENT OF COMMERCE

National Oceanic and Atmospheric Administration

Proposed Information Collection; Comment Request; NOAA Research Performance Progress Report (RPPR)

AGENCY: National Oceanic and Atmospheric Administration (NOAA), Commerce.

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before February 14, 2018.

ADDRESSES: Direct all written comments to Jennifer Jessup, Departmental Paperwork Clearance Officer, Department of Commerce, Room 6616, 14th and Constitution Avenue NW, Washington, DC 20230 (or via the internet at pracomments@doc.gov).

FOR FURTHER INFORMATION CONTACT: Requests for additional information or copies of the information collection instrument and instructions should be directed to Nadia Musa, Grants Management Division, 301-628-1338 or nadia.musa@noaa.gov.

SUPPLEMENTARY INFORMATION:

I. Abstract

The development of a standardized RPPR was an initiative of the Research Business Models (RBM) Subcommittee of the Committee on Science (CoS), a Committee of the National Science and Technology Council (NSTC). It was also part of the implementation of the Federal Financial Assistance Management Improvement Act of 1999 (Pub. L. 106-107). Consistent with the purposes of that Act, the objective of this initiative was to establish a uniform format for reporting performance on Federally-funded research projects. NOAA has not previously used this form, but needs to become in compliance with this Act by using this form for all progress reports required for grants awarded by NOAA, starting with the reporting cycle ending January 31, 2018.

The RPPR is intended to address progress for the most recently completed period, at the frequency required or designated by the sponsoring agency. Information, once reported, does not have to be provided again on subsequent reports. The RPPR requests various types of information, regarding: accomplishments, products, participants and other collaborating organizations, impact, changes/problems, budgetary information and outcomes.

II. Method of Collection

An on line form will be used.

III. Data

OMB Control Number: 0648-xxxx.

Form Number(s): None.

Type of Review: Emergency (request for a new information collection). Per the Paperwork Reduction Act regulations, 5 CFR 1320.13, we are making this request in order to bring NOAA research grantee reporting into compliance with mandated federal reporting requirements (2 CFR Section 200,328), which NOAA must implement for the upcoming reporting cycle on January 30, 2018.

Affected Public: Individuals or households; Business or other for-profit organizations; Not-for-profit institutions; State, Local, or Tribal government; Federal government.

Estimated Number of Respondents: 1,200.

Estimated Time per Response: 15 hours.

Estimated Total Annual Burden Hours: 18,000.

Estimated Total Annual Cost to Public: $0 in recordkeeping/reporting costs.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: January 18, 2018.
Sarah Brabson,
NOAA PRA Clearance Officer.

[FR Doc. 2018-01770 Filed 1-29-18; 8:45 am]

BILLING CODE 3510-22-P